DEPARTMENT OF AGRICULTURE

Forest Service

Rio Grande National Forest; Colorado; Revision of the Land Management Plan for the Rio Grande National Forest

AGENCY: Forest Service, USDA.

ACTION: Notice of opportunity to object to the Revised Land Management Plan for the Rio Grande National Forest.

SUMMARY: The Forest Service is revising the Rio Grande National Forest's Land Management Plan (Forest Plan). The Forest Service has prepared a Final Environmental Impact Statement (FEIS) for its revised Forest Plan and a draft Record of Decision (ROD). This notice is to inform the public that the Rio Grande National Forest is initiating a 60-day period where individuals or entities with specific concerns about the Rio Grande National Forest's revised Forest Plan and the associated FEIS may file objections for Forest Service review prior to the approval of the revised Forest Plan. This is also an opportunity to object to the Regional Forester's list of species of conservation concern (SCC) for the Rio Grande National Forest.

DATES: The Rio Grande National Forest's revised Forest Plan, FEIS, draft ROD, Rocky Mountain Region species of conservation concern list, and other supporting information will be available for review at: https://www.fs.usda.gov/project/?project=46078. The publication date of the legal notice in the Rio Grande National Forest's newspaper of record, The Valley Courier (Alamosa, CO), initiates the 60-day objection period and is the exclusive means for calculating the time to file an objection (36 CFR 219.52(c)(5)). An electronic scan of the legal notice with the publication date will be posted at the link above.

ADDRESSES: Copies of the Rio Grande National Forest's revised Forest Plan, FEIS, draft ROD, and Rocky Mountain Region species of conservation concern list can be obtained online at: https://www.fs.usda.gov/project/?project=46078, or at the following office: Rio Grande National Forest Supervisor's Office, 1803 W Highway 160, Monte Vista, CO 81144, Phone: (719) 852-5941. Objections must be submitted to the Objection Reviewing Officer by one of the following methods:

• Via regular mail, carrier, or hand delivery to the following address: USDA Forest Service, Attn: Objection Reviewing Officer, Rocky Mountain Region, 1617 Cole Boulevard, Building 17, Lakewood, CO 80401. Note that the office hours for submitting a hand-delivered objection are 8:00 a.m. to 4:30 p.m., Mountain Time, Monday through Friday, excluding Federal holidays.

• Via fax to (303) 275-5134. Faxes must be addressed to “Objection Reviewing Officer.” The fax coversheet should specify the number of pages being submitted.

• Via email to r02admin_review@fs.fed.us with the subject line: “Rio Grande Forest Plan Revision Objection.” Electronic objections must be submitted in a format such as an email message, plain text (.txt), rich text format (.rtf), or Word (.doc).

FOR FURTHER INFORMATION CONTACT: Rio Grande National Forest's Forest Planner, Judi Perez at (719) 852-6240 or judi.perez@usda.gov. Individuals who use telecommunication devices for the deaf (TDD) may call the Federal Information Relay Service (FIRS) at 1-800-877-8339 between 8:00 a.m. and 8:00 p.m., Eastern Time, Monday through Friday.

SUPPLEMENTARY INFORMATION: The decision to approve the revised Forest Plan for the Rio Grande National Forest and the Regional Forester's list of SCC will be subject to the objection process identified in 36 CFR part 219 subpart B (219.50 to 219.62). An objection must include the following (36 CFR 219.54(c)):

(1) The objector's name and address along with a telephone number or email address if available—in cases where no identifiable name is attached to an objection, the Forest Service will attempt to verify the identity of the objector to confirm objection eligibility;

(2) Signature or other verification of authorship upon request (a scanned signature for electronic mail may be filed with the objection);

(3) Identification of the lead objector, when multiple names are listed on an objection. The Forest Service will communicate to all parties to an objection through the lead objector. Verification of the identity of the lead objector must also be provided if requested;

(4) The name of the plan, plan amendment, or plan revision being objected to, and the name and title of the responsible official;

(5) A statement of the issues and/or parts of the plan, plan amendment, or plan revision to which the objection applies;

(6) A concise statement explaining the objection and suggesting how the draft plan decision may be improved. If the objector believes that the plan, plan amendment, or plan revision is inconsistent with law, regulation, or policy, an explanation should be included;

(7) A statement that demonstrates the link between the objector's prior substantive formal comments and the content of the objection, unless the objection concerns an issue that arose after the opportunities for formal comment; and

(8) All documents referenced in the objection (a bibliography is not sufficient), except the following need not be provided:

a. All or any part of a Federal law or regulation,

b. Forest Service Directive System documents and land management plans or other published Forest Service documents,

c. Documents referenced by the Forest Service in the planning documentation related to the proposal subject to objection, and

d. Formal comments previously provided to the Forest Service by the objector during the proposed plan, plan amendment, or plan revision comment period.

It is the responsibility of the objector to ensure that the reviewing officer receives the objection in a timely manner. The regulations prohibit extending the length of the objection filing period.

Responsible Official

The responsible official who will approve the ROD and the revised Forest Plan for the Rio Grande National Forest is Dan Dallas, Forest Supervisor, Rio Grande National Forest, 1803 W Highway 160, Monte Vista, CO 81144. The responsible official for the SCC list is Brian Ferebee, Regional Forester, USDA Forest Service Rocky Mountain Region, 1617 Cole Boulevard, Building 17, Lakewood, CO 80401.

The Regional Forester is the reviewing officer for the revised Forest Plan since the Forest Supervisor is the responsible official (36 CFR 219.56(e)(2)). The Regional Forester will consider comments received and respond in the FEIS and ROD. The decision to approve the SCC list will be subject to a separate objection process. The Chief of the Forest Service is the reviewing officer for SCC identification since the Regional Forester is the responsible official (36 CFR 219.56(e)(2)).

Dated: June 28, 2019.
Frank R. Beum,
Acting Associate Deputy Chief, National Forest System.

[FR Doc. 2019-16287 Filed 8-1-19; 8:45 am]

BILLING CODE 3411-15-P